DEPARTMENT OF COMMERCE

Foreign-Trade Zones Board

Site Renumbering Notice; Foreign-Trade Zone 29—Louisville, KY

Foreign-Trade Zone 29 was approved by the FTZ Board on May 26, 1977 (Board Order 118, 42 FR 29323, 6/8/77), and expanded on January 31, 1989 (Board Order 429, 54 FR 5992, 2/7/89), December 15, 1997 (Board Order 941, 62 FR 67044, 12/23/97), July 17, 1998 (Board Order 995, 63 FR 40878, 7/31/98), December 11, 2000 (Board Order 1133, 65 FR 79802, 12/20/00), January 15, 2002 (Board Order 1204, 67 FR 4391, 12/30/02), November 20, 2003 (Board Order 1305, 68 FR 67400, 12/2/2003), and January 27, 2005 (Board Order 1364, 70 FR 6616, 2/8/2005).

FTZ 29 currently consists of 13 “sites” totaling 5,659 acres in the Louisville area. The current update does not alter the physical boundaries that have previously been approved, but instead involves an administrative renumbering that separates certain non-contiguous sites for record-keeping purposes.

Under this revision, the site list for FTZ 29 will be as follows: Site 1 (1,643 acres)—located within the Riverport Industrial Complex (includes 247 acres along Johnsontown Road, adjacent to the Riverport Industrial Complex and 130 acres at Greenbelt and Logistics Drive, adjacent to the northern boundary of the Riverport Industrial Complex); Site 2 (564 acres)—located at the junction of Gene Snyder Freeway and La Grange Road in eastern Jefferson County; Site 3 (142 acres, 1,629,000 sq. ft.)—located at 5403 Southside Drive, Louisville; Site 4 (2,149 acres) at the Louisville International Airport (includes the Airport's industrial park area, 94 acres at the Dixie Warehouse & Cartage Co. public warehousing facility located at Grade Lane [formerly Site 4, Parcel B], and 475 acres at the UPS Global Port Package Sorting Facility and Airport Tank Farm and maintenance facility [formerly part of Site 4, Parcel C]); Site 5 (69 acres)—the Marathon Ashland Petroleum LLC Tank Farm (1.3 million barrels) and pipelines, located at 4510 Algonquin Parkway along the Ohio River, Louisville, which supplies part of the airport's fuel system; Site 6 (316 acres)—Cedar Grove Business Park, on Highway 480, near Interstate 65, Shepherdsville, Bullitt County; Site 7 (191 acres)—Henderson County Riverport Authority facilities, 6200 Riverport Road, Henderson; Site 8 (182 acres)—Owensboro Riverport Authority facilities, 2300 Harbor Road, Owensboro; Site 9 (82 acres)—two parcels within the 4 Star Regional Business Park (expires 11/30/11) (includes 42 acres located at Southern Star Way, and 40 acres located at 2001 Northern Star Way, Robards); Site 10 (25 acres)—Global Port Business Park, 6201 Global Distribution Way, Louisville; Site 11 (261 acres)—Outer Loop, Louisville, including a warehousing facility located at Stennett Lane (116 acres), 8100 Air Commerce Drive (44 acres) [formerly Site 4, Parcel C] and the Louisville Metro Commerce Center, 1900 Outer Loop Road (101 acres) (includes portions of two buildings located at 2240 and 2250 Outer Loop Road) [formerly Site 4, Parcel D]; Site 12 (29 acres)—Salt River Business Park, 376 Zappos Blvd., Shepherdsville, Bullitt County [formerly part of Site 6]; and, Site 13 (6 acres)—Custom Quality Services located at 3401 Jewell Avenue [formerly Site 1a].

For further information, contact Elizabeth Whiteman at Elizabeth.Whiteman@trade.gov or (202) 482-0473.

Dated: November 16, 2010.
Andrew McGilvray,
Executive Secretary.

[FR Doc. 2010-29383 Filed 11-19-10; 8:45 am]

BILLING CODE 3510-DS-P